DEPARTMENT OF COMMERCE

International Trade Administration

[A-489-829]

Steel Concrete Reinforcing Bar From the Republic of Türkiye: Preliminary Results and Rescission, in Part, of Antidumping Duty Administrative Review; 2023-2024

AGENCY: Enforcement and Compliance, International Trade Administration, Department of Commerce.

SUMMARY: The U.S. Department of Commerce (Commerce) preliminarily finds that certain producers/exporters of steel concrete reinforcing bar (rebar) from the Republic of Türkiye (Türkiye) made sales of subject merchandise in the United States at prices below normal value (NV) during the period of review (POR) July 1, 2023, through June 30, 2024. In addition, Commerce is rescinding the review, in part, with respect to two companies which had no reviewable entries in the U.S. Customs and Border Production (CBP) data. We invite interested parties to comment on these preliminary results.

DATES: Applicable August 12, 2025.

FOR FURTHER INFORMATION CONTACT: Samuel Evans, AD/CVD Operations, Office IX, Enforcement and Compliance, International Trade Administration, Department of Commerce, 1401 Constitution Avenue NW, Washington, DC 20230; telephone: (202) 482-2420.

SUPPLEMENTARY INFORMATION:

Background

On July 14, 2017, Commerce published in the Federal Register the antidumping duty order on rebar from Türkiye.¹ On August 14, 2024, based on timely requests for review, Commerce initiated an administrative review of the Order covering three companies, in accordance with section 751(a) of the Tariff Act of 1930, as amended (the Act).²

¹ See Steel Concrete Reinforcing Bar from the Republic of Turkey and Japan: Amended Final Affirmative Antidumping Duty Determination for the Republic of Turkey and Antidumping Duty Orders, 82 FR 32532 (July 14, 2017), as amended by Notice of Court Decision Not in Harmony with the Amended Final Determination in the Less-Than-Fair-Value Investigation; Notice of Amended Final Determination, 87 FR 934 (January 22, 2022) (Order).

² See Initiation of Antidumping and Countervailing Duty Administrative Reviews, 89 FR 66035 (August 14, 2024).

On December 9, 2024, Commerce tolled certain deadlines in this administrative proceeding by 90 days.³ On June 23, 2025, we extended the deadline for the preliminary results of this administrative review to July 30, 2025,⁴ and on July 30, 2025, we extended the deadline for the preliminary results of this administrative review to August 6, 2025.⁵ For a complete description of the events that followed the initiation of this review, see the Preliminary Decision Memorandum.⁶

³ See Memorandum, “Tolling of Deadlines for Antidumping and Countervailing Duty Proceedings,” dated December 9, 2024.

⁴ See Memorandum, “Extension of Deadline for the Preliminary Results of 2023-2024 Antidumping Duty Administrative Review,” dated June 23, 2025.

⁵ See Memorandum “Extension of Deadline for Preliminary Results of Antidumping Duty Administrative Review,” dated July 30, 2025.

⁶ See Memorandum, “Decision Memorandum for the Preliminary Results of the Antidumping Duty Administrative Review of Steel Concrete Reinforcing Bar from the Republic of Türkiye; 2022-2023,” dated concurrently with, and hereby adopted by, this notice (Preliminary Decision Memorandum).

Scope of the Order

The merchandise covered by the Order is rebar from Türkiye. For a full description of the scope of the Order, see the Preliminary Decision Memorandum.

Methodology

Commerce is conducting this review in accordance with sections 751(a) of the Act. We calculated export price and constructed export price in accordance with section 772 of the Act. We calculated NV in accordance with section 773 of the Act. For a full description of the methodology underlying these preliminary results, see the Preliminary Decision Memorandum. A list of topics included in the Preliminary Decision Memorandum is attached as an appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Partial Rescission of Administrative Review

Pursuant to 19 CFR 351.213(d)(3), Commerce will rescind an administrative review when there are no reviewable entries of subject merchandise during the POR for which liquidation is suspended.⁷ Normally, upon completion of an administrative review, the suspended entries are liquidated at the antidumping duty assessment rate calculated for the review period.⁸ Therefore, for an administrative review of a company to be conducted, there must be a suspended entry that Commerce can instruct CBP to liquidate at the antidumping duty assessment rate calculated for the POR.⁹

⁷ See, e.g., Dioctyl Terephthalate from the Republic of Korea: Rescission of Antidumping Administrative Review; 2021-2022, 88 FR 24758 (April 24, 2023); see also Certain Carbon and Alloy Steel Cut- to Length Plate from the Federal Republic of Germany: Recission of Antidumping Administrative Review; 2020-2021, 88 FR 4157 (January 24, 2023).

⁸ See 19 CFR 351.212(b)(2).

⁹ See 19 CFR 351.213(d)(3).

Icdas Celik Enerji Tersane ve Ulasim Sanayi A.S.

On September 27, 2024, we notified parties of our intent to rescind this administrative review, in part, with respect to Icdas Celik Enerji Tersane ve Ulasim Sanayi A.S. (Icdas) because it had no suspended entries of subject merchandise during the POR in the CBP data, and we invited interested parties to comment.¹⁰ We received no comments from interested parties. Therefore, in the absence of any suspended entries of subject merchandise from Icdas during the POR, we are rescinding the administrative review for Icdas, in accordance with 19 CFR 351.213(d)(3).

¹⁰ See Memorandum, “Notice of Intent to Rescind Review, In Part,” dated September 27, 2024.

Kaptan Demir Celik Endustrisi ve Ticaret A.S.

On September 5, 2024, we received comments from Kaptan Demir Celik Endustrisi ve Ticaret A.S. on the CBP data, claiming that Kaptan ¹¹ had no shipments to the United States during the POR,¹² as well as comments from the Rebar Trade Action Coalition, the petitioner in this proceeding.¹³ We obtained CBP entry documentation regarding the entries in question,¹⁴ and on January 3 and January 8, 2025, we received timely comments and rebuttal comments, respectively, on the Kaptan Entry Documents from Kaptan and the petitioner.¹⁵ After analyzing these comments, on January 27, 2025, we notified parties of our intent to rescind this administrative review, in part, with respect to Kaptan because we found that Kaptan had no reviewable entries of subject merchandise into the United States during the POR.¹⁶

¹¹ Commerce has previously found Kaptan Demir Celik Endustrisi ve Ticaret A.S. and Kaptan Metal Dis Ticaret Ve Nakliyat A.S. (collectively, Kaptan) to be a collapsed entity. See Steel Concrete Reinforcing Bar From the Republic of Turkey: Final Results of Antidumping Duty Administrative Review and Final Determination of No-Shipments; 2019-2020, 87 FR 7118, 7119 (February 8, 2022).

¹² See Kaptan's Letter, “Kaptan's Comments on Re-Issued CBP Data,” dated September 5, 2024.

¹³ See Petitioner's Letter, “Comments on CBP Data and Respondent Selection,” dated September 5, 2024.

¹⁴ See Memorandum, “CBP Entry Summary Documentation,” dated December 19, 2024 (Kaptan Entry Documents).

¹⁵ See Kaptan's Letter, “Kaptan's Comments on CBP Entry Summary Documentation,” dated January 3, 2025; see also Petitioner's Letter, “Comments on Kaptan CBP Documents,” dated January 3, 2025; Kaptan's Letter, “Kaptan's Rebuttal Comments on CBP Entry Summary Documentation,” dated January 8, 2025; and Petitioner's Letter, “Rebuttal Comments on Kaptan CBP Documents,” dated January 8, 2025.

¹⁶ See Memorandum, “Notice of Intent to Rescind Review, In Part,” dated January 27, 2025 (Kaptan Intent to Rescind Memorandum).

On February 4 and February 10, 2025, we received timely comments and rebuttal comments, respectively, on the Kaptan Intent to Rescind Memorandum from the petitioner and Kaptan.¹⁷ We analyzed these comments, as well as the information on the record regarding the entries at issue,¹⁸ and continue to find that the information on the record of this review demonstrates that Kaptan had no reviewable entries of subject merchandise into the United States during the POR. Therefore, we are rescinding the administrative review for Kaptan, in accordance with 19 CFR 351.213(d)(3).

¹⁷ See Petitioner's Letter, “Comments on the Department's Notice of Intent to Rescind,” dated February 3, 2025; see also Kaptan's Letter, “Kaptan's Rebuttal Comments In Response to RTAC's Comments on the Department's Notice of Intent to Rescind,” dated February 10, 2025.

¹⁸ Because our analysis includes the discussion of certain business proprietary information that cannot be discussed here, for further discussion see Memorandum, “Kaptan Analysis Memorandum,” dated concurrently with this notice.

Preliminary Results of Review

We preliminarily determine the following estimated weighted-average dumping margin exists for the period July 1, 2023, through June 30, 2024:

Exporter/producer | Weighted-average dumping margin (percent)
Colakoglu Metalurji A.S.; Colakoglu Dis Ticaret A.S | 18.87

Disclosure

Commerce intends to disclose its calculations and analysis performed to interested parties for these preliminary results within five days of any public announcement or, if there is no public announcement, within five days of the date of publication of this notice in accordance with 19 CFR 351.224(b).

Public Comment

Case briefs or other written comments may be submitted to the Assistant Secretary for Enforcement and Compliance. Pursuant to 19 CFR 351.309(c)(1)(ii), we have modified the deadline for interested parties to submit case briefs to Commerce to no later than 21 days after the date of the publication of this notice. Rebuttal briefs, limited to issues raised in case briefs, may be filed no later than five days after the date for filing case briefs.¹⁹ Interested parties who submit case briefs or rebuttal briefs in this proceeding must submit: (1) a table of contents listing each issue; and (2) a table of authorities.²⁰ All briefs must be filed electronically using ACCESS. An electronically filed document must be received successfully in its entirety in ACCESS by 5:00 p.m. Eastern Time on the established deadline.

¹⁹ See 19 CFR 351.309(d); see also Administrative Protective Order, Service, and Other Procedures in Antidumping and Countervailing Duty Proceedings, 88 FR 67069, 67077 (September 29, 2023) (APO and Service Final Rule).

²⁰ See 19 CFR 351.309(c)(2) and (d)(2).

As provided under 19 CFR 351.309(c)(2) and (d)(2), in prior proceedings, we have encouraged interested parties to provide an executive summary of their briefs that should be limited to five pages total, including footnotes. In this review, we instead request that interested parties provide, at the beginning of their briefs, a public executive summary for each issue raised in their briefs.²¹ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).²²

²¹ We use the term “issue” here to describe an argument that Commerce would normally address in a comment of the Issues and Decision Memorandum.

²² See APO and Service Final Rule.

Pursuant to 19 CFR 351.310(c), interested parties who wish to request a hearing must submit a written request to the Assistant Secretary for Enforcement and Compliance, U.S. Department of Commerce within 30 days after the date of publication of this notice. Requests should contain: (1) the party's name, address, and telephone number; (2) the number of participants; and (3) a list of the issues to be discussed. Issues raised in the hearing will be limited to those raised in the respective case briefs. Oral presentations at the hearing will be limited to issues raised in the briefs. If a request for a hearing is made, parties will be notified of the time and date for the hearing.²³

²³ See 19 CFR 351.310(d).

Assessment Rates

Upon completion of this administrative review, Commerce shall determine, and CBP shall assess, antidumping duties on all appropriate entries covered by this review.²⁴ The final results of this review shall be the basis for the assessment of antidumping duties on entries of merchandise covered by this review and for future deposits of estimated duties, where applicable.²⁵ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

²⁴ See 19 CFR 351.212(b)(1).

²⁵ See section 751(a)(2)(C) of the Act.

Pursuant to 19 CFR 351.212(b)(1), because Colakoglu reported the entered value for its U.S. sales, we calculated importer-specific ad valorem antidumping duty assessment rates based on the ratio of the total amount of antidumping duties calculated for the examined sales to the total entered value of those same sales. Where either Colakoglu's weighted-average dumping margin is zero or de minimis within the meaning of 19 CFR 351.106(c)(1), or an importer-specific rate is zero or de minimis within the meaning of 19 CFR 351.106(c)(2), we will instruct CBP to liquidate the appropriate entries without regard to antidumping duties.²⁶

²⁶ Id.

Commerce's “automatic assessment” practice will apply to entries of subject merchandise during the POR produced by Colakoglu for which it did not know that the merchandise it sold to an intermediary (e.g., a reseller, trading company, or exporter) was destined for the United States. In such instances, we will instruct CBP to liquidate those entries at the all-others rate (i.e., 3.90 percent) ²⁷ if there is no rate for the intermediate company(ies) involved in the transaction.²⁸

²⁷ See Order, 87 FR at 935.

²⁸ For a full discussion of this practice, see Antidumping and Countervailing Duty Proceedings: Assessment of Antidumping Duties, 68 FR 23954 (May 6, 2003).

For the companies for which we are rescinding this review (i.e., Icdas and Kaptan), we will instruct CBP to assess antidumping duties on all appropriate entries at a rate equal to the cash deposit of estimated antidumping duties required at the time of entry, or withdrawal from warehouse, for consumption, during the period July 1, 2023, through June 30, 2024, in accordance with 19 CFR 351.212(c)(l)(i). Commerce intends to issue these rescission instructions to CBP no earlier than 35 days after the date of publication of this notice in the Federal Register.

Cash Deposit Requirements

The following cash deposit requirements will be effective for all shipments of the subject merchandise entered, or withdrawn from warehouse, for consumption on or after the publication date of the final results of this administrative review, as provided by section 751(a)(2)(C) of the Act: (1) the cash deposit rate for the company listed above will be equal to the weighted-average dumping margin established in the final results of this review, except if the rate is de minimis (i.e., less than 0.50 percent), in which case the cash deposit rate will be zero; (2) for previously reviewed or investigated companies not covered by this review, the cash deposit rate will continue to be the company-specific rate published for the most recently-completed segment of this proceeding in which the company was reviewed; (3) if the exporter is not a firm covered in this review, a prior review, or the less-than-fair-value (LTFV) investigation, but the producer is, the cash deposit rate will be the rate established for the most recently-completed segment of this proceeding for the producer of the merchandise; and (4) the cash deposit rate for all other producers or exporters will continue to be 3.90 percent, the all-others rate established in the amended final determination of the LTFV investigation.²⁹ These cash deposit requirements, when imposed, shall remain in effect until further notice.

²⁹ See Order, 87 FR at 935.

Final Results of Review

Unless otherwise extended, Commerce intends to issue the final results of this administrative review, including the results of its analysis of issues raised in written briefs, no later than 120 days after the date of publication of this notice in the Federal Register, pursuant to 751(a)(3)(A) of the Act and 19 CFR 351.213(h)(1).

Notification to Importers

This notice also serves as a preliminary reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties, and/or an increase in the amount of antidumping duties by the amount of the countervailing duties.

Notification to Interested Parties

We are issuing and publishing these results in accordance with sections 751(a)(1) and 777(i)(1) of the Act, 19 CFR 351.213, and 351.221(b)(4).

Dated: August 6, 2025.
Abdelali Elouaradia,
Deputy Assistant Secretary for Enforcement and Compliance.

Appendix

List of Topics Discussed in the Preliminary Decision Memorandum

I. Summary

II. Background

III. Scope of the Order

IV. Discussion of the Methodology

V. Recommendation

[FR Doc. 2025-15264 Filed 8-11-25; 8:45 am]

BILLING CODE 3510-DS-P